DEPARTMENT OF TRANSPORTATION

Federal Highway Administration

Environmental Impact Statement: Shelby County, AL

AGENCY: Federal Highway Administration (FHWA), Department of Transportation.

ACTION: Notice of intent.

SUMMARY: The FHWA is issuing this notice to advise the public that an environmental impact statement will be prepared for a proposed highway project in Shelby County, Alabama.

FOR FURTHER INFORMATION CONTACT: Catherine A. Batey, Acting Division Administrator, Federal Highway Administration, 500 Eastern Boulevard, Suite 200, Montgomery, Alabama 36117, Telephone: (334) 223-7370.

SUPPLEMENTARY INFORMATION: The FHWA, in cooperation with the State of Alabama Department of Transportation, Shelby County Highway Department, and the city of Helena, will prepare an environmental impact statement (EIS) for Alabama Project ST-059-261-004. The proposed project is to construct a new, multi-lane facility within the corporate limits of Helena (Shelby County), Alabama, from Shelby County Road 52 northeastward to State Route 261, a distance of approximately 4 miles. The purpose of this proposed action is to provide an alternate route around historic downtown Helena. Existing and future traffic demands warrant additional lanes and/or an alternate route. Opportunities for further defining the purpose and need for the proposed project will be provided to the participating agencies and the public through scoping and public meetings

Alternatives under consideration include (1) alternate route locations; and (2) a no-action or no-build alternative. Opportunities for providing additional alternatives by participating agencies and the public will be accomplished through a scoping meeting and a public meeting. These opportunities will insure a full range of alternatives have been considered.

Letters describing the proposed action and soliciting comments will be sent to appropriate Federal, State, and local agencies and to private organizations and citizens that have previously expressed or are known to have an interest in this proposal. A series of public invovlement meetings will be initiated, and public hearings will be held. Public notice will be given of the time and place for the meetings and hearings. The Draft Environmental Impact Statement will be available for public and agency review and comment prior to the public hearings.

To ensure that the full range of issues related to this proposed action are addressed and all significant issues identified, comments and suggestions are invited from all interested parties. An interagency scoping meeting will be held. The time and date for the scoping meeting will be coordinated as the project develops. Comments or questions concerning this proposed action and EIS should be directed to the FHWA at the address provided above.

(Catalog of Federal Domestic Assistance Program Number 20.205, Highway Planning and Construction. The regulations implementing Executive Order 12372 regarding intergovernmental consultation on Federal programs and activities apply to this program.)

Issued on: July 26, 2006.
Bill Van Luchene,
Acting Division Administrator, Montgomery, Alabama.

[FR Doc. 06-6599 Filed 7-31-06; 8:45 am]

BILLING CODE 4910-22-M